DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 28, 2002.

Interested persons are invited to submit written comments regarding the subject matter of the investigations to the Director, Division of Trade Adjustment Assistance, at the address shown below, not later than June 28, 2002.

The petitions filed in this case are available for inspection at the Office of the Director, Division of Trade Adjustment Assistance, Employment and Training Administration, U.S. Department of Labor, Room C-5311, 200 Constitution Avenue, NW., Washington, DC 20210.

Signed at Washington, DC this 29th day of April, 2002.
Edward A. Tomchick,
Director, Division of Trade Adjustment Assistance.

Appendix
[Petitions Instituted on 04/29/2002]
TA-W | Subject firm (petitioners) | Location | Date of petition | Product(s)
41,404 | Stream International (Comp) | Dallas, TX | 04/01/2002 | Tier 1 & 2 Technical Support.
41,405 | Riley Industry (USWA) | Provo, UT | 04/08/2002 | Pitch for Aluminum.
41,406 | Siemens ICN (Wrks) | Lake Mary, FL | 04/02/2002 | Telephone Equipment/High-Speed Internet.
41,407 | Leviton Manufacturing Co (Wrks) | El Paso, TX | 03/28/2002 | Plugs and Connectors.
41,408 | Maine Brush LLC (Comp) | Lisbon Falls, ME | 04/19/2002 | Brushes—Artistic and Cosmetic.
41,409 | Wellman, Inc. (Comp) | Fayetteville, NC | 04/22/2002 | Polyester Yarn.
41,410 | Wellman, Inc. (Comp) | Marion, SC | 04/22/2002 | Polyester Staple Fiber.
41,411 | Holiday Products, Inc. (Comp) | El Paso, TX | 04/12/2002 | Distribution Service—Christmas Article.
41,412 | York International (USWA) | Elyria, OH | 04/18/2002 | Heating Installation and AC Products.
41,413 | T and T Land and Timber (Comp) | Rexford, MT | 04/02/2002 | Logs.
41,414 | Honeywell, Inc. (Comp) | Nevada, MO | 04/18/2002 | Air Filters, Metal Plastic Fuel Filters.
41,415 | Electronic Data Systems (Wrks) | Maynard, MA | 03/12/2002 | Software Development and Maintenance.
41,416 | Siemens VDO Automotive (Wrks) | Auburn, IN | 03/29/2002 | Electronic Printed Circuit Boards.
41,417 | FlexPrint (Wrks) | Moorestown, NJ | 03/29/2002 | Printing and Lamination To Fill Perfume.
41,418 | RHO Industries (Comp) | Buffalo, NY | 03/18/2002 | Chat PC Interlinings.
41,419 | BioMerieux (Wrks) | Oklahoma City, OK | 04/01/2002 | Analytical/Detection Software Equipment.
41,420 | Cawood Manufacturing (Wrks) | Sneedville, TN | 04/12/2002 | Upholstrey for Living Room Suites.
41,421 | American Dawn, Inc. (Wrks) | Compton, CA | 04/01/2002 | Textile Production.
41,422 | McCain Foods USA, Inc. (Wrks) | Appleton, WI | 03/10/2002 | Food Appetizers.
41,423 | DDG, Inc./Windsurfing (Comp) | Hood River, OR | 03/15/2002 | Wind-Surfing Goods.
41,424 | IBIDEN Graphite Parts of Americ (Wrks) | Portland, OR | 03/11/2002 | Isotrophic Graphite Parts.
41,425 | Tzipi, Inc. (UNITE) | Brooklyn, NY | 04/08/2002 | Ladies Sportswear.
41,426 | Fairbrooke Enterprises (UNITE) | Carlstadt, NJ | 04/08/2002 | Ladies Wool Coats.
41,427 | Wehadkee Yarn Mills (Comp) | Talladega, AL | 03/14/2002 | Bed Spreads.
41,428 | Zenith Dye and Finishing (UNITE) | Paterson, NJ | 04/04/2002 | Dye and Finishing of Fabrics.
41,429 | Concord Wire (USWA) | Worcester, MA | 03/28/2002 | Wire Products.
41,430 | Alcatel (Wrks) | Ogdensburg, NY | 02/18/2002 | Telecommunications Equipment.
41,431 | Sterling Fluid/Process (IBT) | White Pigeon, MI | 04/01/2002 | Pump Casting Molds.
41,432 | Lucent Technologies/OFS (Wrks) | Sturbridge, MA | 04/05/2002 | Fiber Optic Fiber.
41,433 | Intercraft Burnes (Comp) | Statesville, NC | 04/04/2002 | Decorative Photo and Certificate Frames.
41,434 | Goodrich Corp. (Comp) | Spencer, WV | 04/05/2002 | Aircraft Evacuation Slides.
41,435 | Imperial Holly Sugar (Wrks) | Hereford, TX | 04/02/2002 | Sugar Beet Molasses.
41,436 | Corcom—A Tyco Company (Wrks) | El Paso, TX | 03/21/2002 | Filters and Relays.
41,437 | U.S. Vanadium Corp (Comp) | Niagara Falls, NY | 04/10/2002 | Vanaduim Aluminium.
41,438 | Alliance Machine Co (Comp) | Alliance, OH | 04/05/2002 | Machinery & Equipment for Steel Mills.
41,439 | Shiloh Industries (Wrks) | Canton, MI | 02/08/2002 | Built Dies.
41,440 | Jervis B. Webb Co. (USWA) | New Hudson, MI | 04/09/2002 | Straight Tracks, Drives, Roller Turns.
41,441 | Amerock (Comp) | Rockford, IL | 04/03/2002 | Cabinet Hardware.
41,442 | Ponderosa Pulp Products (Wrks) | Oshkosh, WI | 04/04/2002 | Recycled Pulp.
41,443 | Carter Footwear, Inc. (Comp) | Wilkes Barre, PA | 04/05/2002 | Injection Molded Canvas Footwear.
41,444 | Joseph Timber Co (Wrks) | Joseph, OR | 03/07/2002 | Lumber.
41,445 | Quantegy, Inc. (Wrks) | Opelika, AL | 03/21/2002 | Magnetic Tape.
41,446 | Duel Systems (Comp) | San Jose, CA | 04/02/2002 | Metal and Plastic.
41,447 | Midway Machine and Tool (Wrks) | Wilkes Barre, PA | 04/05/2002 | Silence.
41,448 | Ocwen Technology Xchange (Wrks) | Carlsbad, CA | 04/03/2002 | Software Web-Based Application.
41,449 | Biljo, Inc (Comp) | Dublin, GA | 04/11/2002 | Men and Boys Apparel.
41,450 | Columbia River Egg Farm (Wrks) | Rufus, OR | 03/08/2002 | Egg Processing.
41,451 | Powerex, Inc (Comp) | Youngwood, PA | 03/08/2002 | Motor Controls, Power Supplies.
41,452 | American Paper Tube (Wrks) | Port Gibson, MS | 03/22/2002 | Paper Tubes.
41,453 | Fun-Tees, Inc, (Comp) | Concord, NC | 03/19/2002 | Tee-Shirts.
41,454 | K and J Clothing (Wrks) | Philadelphia, PA | 03/29/2002 | Dresses.
41,455 | Werbak, Inc. (Wrks) | Webster, MA | 03/14/2002 | Yarn.
41,456 | New Images, Inc (Wrks) | Reidsville, NC | 03/27/2002 | Garment Textile Screen Printer.
41,457 | Sandisk Corp. (Wrks) | Sunnyvale, CA | 03/28/2002 | CF Compact Flash Cards.
41,458 | Ameripol Synpol Corp. (Wrks) | Odessa, TX | 03/25/2002 | Burodiene Rubber.
41,459 | Dave Goldberg, Inc. (UNITE) | Long Island Cty, NY | 04/18/2002 | Swimwear.
41,460 | Hoffman Enclosures (Wrks) | Anoka, MN | 04/18/2002 | Electrical Enclosures.
41,461 | Renfro Corp. (Comp) | South Pittsburg, TN | 04/08/2002 | Children's Socks.
41,462 | Astec Semiconductor, Inc (Wrks) | Milpitas, CA | 04/04/2002 | Semi-Conductor Circuits.
41,463 | Knight Textile Corp (Comp) | Saluda, SC | 04/19/2002 | Ladies Sportswear.
41,464 | Analog Devices (Wrks) | Wilmington, MA | 04/12/2002 | Semi-Conductor.

[FR Doc. 02-15303 Filed 6-17-02; 8:45 am]

BILLING CODE 4510-30-M